DEPARTMENT OF COMMERCE

National Institute of Standards and Technology

Drafting the NIST Privacy Framework: Workshop #2

AGENCY: National Institute of Standards and Technology, U.S. Department of Commerce.

ACTION: Notice; public workshop.

SUMMARY: The National Institute of Standards and Technology (NIST) will be hosting the second in a series of public workshops on the development of the Privacy Framework: An Enterprise Risk Management Tool (“Privacy Framework”) on May 13-14, 2019 in Atlanta, Georgia. In this two-day event, attendees will have an opportunity to actively engage in facilitated discussions to advance the development of the Privacy Framework. NIST will release a discussion draft of the Privacy Framework prior to the workshop, and will use the breakout sessions at the workshop to inform revisions to the discussion draft.

DATES: The workshop will begin on May 13, 2019, at 8:30 a.m. ET, and will adjourn on May 14, 2019 at 4:30 p.m. ET. Registration will be open until midnight on May 6, 2019, or until registration reaches capacity.

ADDRESSES: The workshop will be held in Atlanta, Georgia, hosted by the Georgia Tech Scheller College of Business. The workshop will begin with check-in at the Biltmore Ballroom, at 817 West Peachtree Street NW, Atlanta, Georgia 30308. Breakout session location information will be available at check-in.

FOR FURTHER INFORMATION CONTACT: For questions about this workshop, contact: Naomi Lefkovitz, U.S. Department of Commerce, National Institute of Standards and Technology (NIST), MS 2000, 100 Bureau Drive, Gaithersburg, MD 20899, telephone (301) 975-2924, email privacyframework@nist.gov. Please direct media inquiries to NIST's Public Affairs Office at (301) 975-NIST.

SUPPLEMENTARY INFORMATION: The workshop schedule and registration information is posted online at: https://www.nist.gov/news-events/events/2019/05/drafting-nist-privacy-framework-workshop-2. Other opportunities to engage in the development of the Privacy Framework will be posted on the Privacy Framework Development Schedule as they are available (https://www.nist.gov/privacy-framework/development-schedule) and announced through the Privacy Framework mailing list (https://groups.google.com/a/list.nist.gov/forum/#!forum/privacyframework).

Genesis of the Privacy Framework Development

It is a challenge to design, operate, or use technologies in ways that are mindful of diverse privacy needs in an increasingly connected and complex environment. Current and cutting-edge technologies such as mobile devices, social media, the Internet of Things and artificial intelligence are giving rise to increased concerns about their impacts on individuals' privacy. Inside and outside the U.S., there are multiple visions for how to address these concerns. Accordingly, the U.S. Department of Commerce (DOC) is developing a forward-thinking approach that supports both business innovation and strong privacy protections. As part of this effort, NIST is developing a voluntary Privacy Framework to help organizations: Better identify, assess, manage, and communicate privacy risks; foster the development of innovative approaches to protecting individuals' privacy; and increase trust in products and services.¹ The Privacy Framework is intended to be a tool that would assist with enterprise risk management.

¹ In parallel with this effort, the DOC's National Telecommunications and Information Administration is developing a set of privacy principles in support of a domestic policy approach that advances consumer privacy protections while protecting prosperity and innovation, in coordination with DOC's International Trade Administration to ensure consistency with international policy objectives: https://www.ntia.doc.gov/federal-register-notice/2018/request-comments-developing-administration-s-approach-consumer-privacy.

Registration

To register for Drafting the Privacy Framework: Workshop #2, please visit https://www.nist.gov/news-events/events/2019/05/drafting-nist-privacy-framework-workshop-2. Registration will be open until midnight on May 6, 2019, or until registration reaches capacity.

Workshop Objectives

Prior to the workshop, NIST will publicly post a discussion draft of the Privacy Framework on the Privacy Framework website, and will email it to all registered attendees. NIST will use the breakout sessions at the workshop to inform revisions to the discussion draft.

• Workshop Inputs: Prior to the workshop, NIST will publish a discussion draft of the Privacy Framework.

• Expected Workshop Outputs: Revised discussion draft which will inform the further development of the draft Privacy Framework.

Kevin A. Kimball,
Chief of Staff.

[FR Doc. 2019-09056 Filed 5-2-19; 8:45 am]

BILLING CODE 3510-13-P